DEPARTMENT OF COMMERCE

National Oceanic and Atmospheric Administration

50 CFR Part 223

[I.D. 052301C]

Endangered and Threatened Species; Take of Anadromous Fish

AGENCY: National Marine Fisheries Service (NMFS), National Oceanic and Atmospheric Administration (NOAA), Commerce.

ACTION: Notice of final determination and discussion of underlying biological analysis.

SUMMARY: NMFS has evaluated the joint resource management plan (RMP), provided by the Washington Department of Fish and Wildlife and the Point-No-Point Treaty Tribes (Co-managers) for harvest of Hood Canal and Strait of Juan de Fuca summer-run chum salmon pursuant to the protective regulations promulgated for Hood Canal summer-run chum salmon under the Endangered Species Act (ESA). The RMP (the harvest component of the Summer Chum Salmon Conservation Initiative - An Implementation Plan to Recover Summer Chum Salmon in the Hood Canal and Strait of Juan de Fuca Region [SCSCI]) specifies the future management of commercial, recreational, and tribal salmon fisheries that potentially affect listed Hood Canal summer-run chum salmon.

This document serves to notify the public that NMFS, by delegated authority from the Secretary of Commerce, has determined that implementing and enforcing the RMP will not appreciably reduce the likelihood of survival and recovery of the Hood Canal summer-run chum salmon Evolutionarily Significant Unit (ESU). This document also includes a summary of the underlying biological analysis used in the determination (Evaluation).

DATES: The final determination on the take limit was made on April 27, 2001.

ADDRESSES: Sustainable Fisheries Division, National Marine Fisheries Service, 7600 Sand Point Way NE, Seattle, Washington 98115-0070.

FOR FURTHER INFORMATION CONTACT: Keith Schultz at: 206/526-4447, or e-mail: keith.schultz@noaa.gov regarding the RMP.

SUPPLEMENTARY INFORMATION: This notice is relevant to the Hood Canal Summer-Run Chum Salmon (Oncorhynchus keta) ESU.

Electronic Access

The full texts of NMFS’ determination, and the final Evaluation are available on the Internet at the NMFS, Sustainable Fisheries Division wed site at: http://www.nwr.noaa.gov/1sustfsh/limit6/index.html.

The Summer Chum Salmon Conservation Initiative - An Implementation Plan to Recover Summer Chum Salmon in the Hood Canal and Strait of Juan de Fuca Region is available on the Internet at the State of Washington, Department of Fish and Wildlife web site: http://www.wa.gov/wdfw/fish/chum/chum.htm.

Background

The Washington Department of Fish and Wildlife and the Point-No-Point Treaty Tribes provided NMFS a jointly developed RMP for Hood Canal and Strait of Juan de Fuca summer-run chum salmon. The RMP encompasses Washington Coastal and Puget Sound salmon fisheries affecting the Hood Canal summer-run chum salmon ESU. Harvest objectives specified in the RMP account for fisheries-related mortality throughout the migratory range of Hood Canal and Strait of Juan de Fuca summer chum salmon, from Northern British Columbia, Canada to South Puget Sound. The RMP also includes implementation, monitoring and evaluation procedures designed to ensure fisheries are consistent with these objectives.

On March 13, 2001, at 66 FR 14551, NMFS published a notice of availability for public review and comment on its evaluation of how the Hood Canal summer-run chum salmon RMP addressed the criteria in § 223.203(b)(4) of the ESA 4(d) rule (65 FR 42477).

As required by § 223.203 (b)(6) of the ESA 4(d) rule, NMFS must determine pursuant to 50 CFR 223.209 and pursuant to the government to government processes therein whether the RMP for Hood Canal summer-run chum salmon would appreciably reduce the likelihood of survival and recovery of the Hood Canal Summer-Run Chum Salmon ESU and other affected threatened ESUs. NMFS must take comments on how the RMP addresses the criteria in § 223.203(b)(4) in making that determination.

Discussion of the Biological Analysis Underlying the Determination

The RMP establishes a harvest regime referred to as the Base Conservation Regime (BCR). Under the BCR, summer chum salmon are caught incidentally in fisheries targeting other, more abundant and healthy populations. Most of these fisheries require the catch-and-release of summer chum salmon. The RMP’s management actions affect all salmon fisheries which impact listed Hood Canal summer-run chum salmon, including Canadian salmon fisheries.

The BCR is comprised of the following elements: (1) A base set of fishery-specific management actions for fisheries in U.S. and Canadian pre-terminal, Washington terminal and Washington extreme terminal areas; (2) Management unit and population abundance and escapement critical thresholds that trigger review of and possible adjustment of the management actions; (3) Expected fishery specific exploitation rate targets and ranges based on the application of the BCR on the Hood Canal and Strait of Juan de Fuca summer chum salmon management units; and (4) Overall management performance standards based on natural production against which to assess success of the Summer Chum Salmon Conservation Initiative and the harvest strategy, and make necessary adjustments. The actions required depend both on the status of the management unit and the populations within them, with the most conservative controls prevailing.

In any given year, the results of these management actions are designed to produce exploitation rates within the range of 3.3 to 15.3 percent on summer chum salmon bound for the Hood Canal and 2.8 to 11.8 percent on the Strait of Juan de Fuca populations. It is NMFS’s determination that exploitation rates within these ranges, with the average annual exploitation rate near the mid-point, will not appreciably reduce the likelihood of survival and recovery of the ESU in the wild. Although in any one year, fisheries may be managed for exploitation rates lower than this range, the upper end of the exploitation rate ranges may not be exceeded. If post-season analysis indicates that the range has been exceeded, the RMP requires Co-managers to take the necessary actions to identify the reasons for exceeding the ranges and to minimize this occurring the following year. At the time of the five-year plan review, the annual exploitation rates for the previous five-year period are not to be clustered towards either extreme of the range. The expected average annual exploitation rate is 10.9 percent on summer chum salmon bound for the Hood Canal and 8.8 percent on the Strait of Juan de Fuca populations. As stated previously, it is NMFS’ determination that the exploitation rates proposed in the RMP will not appreciably reduce the likelihood of survival and recovery of the ESU in the wild.

The BCR will remain in place until such time as the Co-managers incorporate the population recovery goals into the management structure. At that time, the Co-managers will discuss with NMFS what terms of the existing plan will continue.

The RMP includes a monitoring and evaluation plan to assess fishing-related impacts to Hood Canal summer-run chum salmon, the abundance of naturally spawning fish for each of the identified management units, the effectiveness of the fishing regimes and general approach, and regulatory compliance. The RMP also requires a progress report to be completed annually, with a more comprehensive plan review every five years. This information will be used by NMFS and the Co-managers annually to assess whether impacts to listed fish are as expected, and to revise the RMP as necessary.

A more detailed discussion of NMFS’ Evaluation is on the Sustainable Fisheries Division web site (See Electronic Access, under the heading SUPPLEMENTARY INFORMATION).

Summary of Comments Received in Response to the Proposed Evaluation and Recommended Determination

NMFS published notice of its proposed evaluation and recommended determination on the RMP for public review and comment on March 13, 2001 (66 FR 14551). The public comment period closed on March 30, 2001. NMFS received comments from one representative of an organization concerning this notice. NMFS has reviewed comments received by the closing date and no issues were raised which required modifying the proposed evaluation and recommended determination. Based on its evaluation and taking into account the public comments, NMFS issued (April 27, 2001) its final determination on the Hood Canal summer-run chum salmon RMP.

Those comments related to NMFS’ proposed evaluation and recommended determination (Evaluation) are summarized here.

The March 13, 2001, Federal Register Notice (66 FR 14551) requested comments concerning NMFS’ proposed evaluation and recommended determination of the RMP (harvest component of the SCSCI). Issues raised by the commenter that related directly to the RMP or addressed the habitat or hatchery components of the Summer Chum Salmon Conservation Initiative required no response because this was not the subject of NMFS’ evaluation. The comments received were organized into five general categories; Critical Thresholds; Abundance and Escapement; Monitoring; Supplementation; and Population Growth Rate. NMFS’ response to comments followed this same structure.

1. Critical Thresholds

Comment: The commenter suggested that the critical thresholds established by the RMP are too low. The commenter argued that increasing the critical thresholds would increase straying to areas where stocks are now extinct, introduce more salmon carcasses (nutrients) into the systems and compensate for catastrophic events.

Response: The RMP established critical thresholds for the five management units. The critical thresholds are based on the lowest abundance observed from 1974 to 1998 which produced a positive observed return (number of spawners was greater than the number of parents), plus a buffer of 25 percent of the difference between the highest and lowest observed abundances. The buffer was added to take into account management and forecast uncertainties, and environmental variation. NMFS’ (2000a) Viable Salmonid Populations (VSP) document describes four key parameters for evaluating the status of salmonid populations. These parameters are: (1) population size (abundance); (2) population growth rate (productivity); (3) spatial structure; and (4) diversity. These parameters include the issues raised by the commenter. Section 4(I)(B) of the proposed determination document addressed adequately each of the VSP parameters for the Hood Canal summer chum salmon population. The critical thresholds were derived prior to the availability of the paper on VSP, but meet or exceed the guidelines, and are generally conservative when compared to the size of the populations historically (NMFS 2000b).

2. Abundance and Escapement

Comment: NMFS received three comments under this category. One addressed the RMP directly (the level of terminal versus pre-terminal harvest) and required no response because this was not the subject of NMFS’s evaluation. One comment addressed the need for increased abundance and escapement to encourage natural straying into adjacent streams. Supplementation and reintroduction approach are described in the Artificial Production section of the SCSCI and was not part of the review of this RMP (the harvest component of the SCSCI). This issue was also addressed adequately in the critical threshold discussion in the response to the previous comment and in the proposed evaluation and recommended determination document (dated March 13, 2001) in the VSP parameters analysis. The last comment under this category was the commenter’s comment that the criteria for “renewing” harvest should be that the average abundance must be higher than the critical threshold for at least three life cycles (the commenter suggested nine years).

Response: The RMP establishes an annual harvest regime (called the Base Conservation Regime) for Hood Canal and Strait of Juan de Fuca terminal and Washington pre-terminal salmon fisheries. The harvest management strategy during this regime is designed to minimize incidental take of listed Hood Canal summer-run chum salmon, while providing opportunity for fisheries directed at other species. Very specific fishing restrictions are outlined in the RMP. These restrictions include closure of all summer chum salmon directed fisheries, delayed or truncated fishery openings for other salmonid species, chum salmon non-retention in fisheries directed at other species, and area closures around freshwater spawning tributaries. All state and tribal fisheries will operate in compliance with the Base Conservation Regime (BCR), and with any modifications made in response to the critical status for one or more management units or populations. The BCR will remain in place until such time as the Co-managers (Washington Department of Fish and Wildlife and the Point-No-Point Treaty Tribes) incorporate the population recovery goals into the management structure. It is anticipated that the BCR will be in place for the foreseeable future. However, as an implementation term, Co-managers will provide NMFS with an assessment report on the anticipated impacts associated with any new harvest regime (including direct take) on the Hood Canal Summer-Run Chum Salmon ESU. The Co-managers and NMFS will meet and discuss the results of the anticipated impacts of any new harvest regime prior to implementation. At that time, NMFS will determine if the new harvest regime is consistent with Limit 6 of the ESA 4(d) Rule.

3. Monitoring

Comment: The commenter suggested that the use of exploitation rate is not an adequate method to assess the “run health.”

Response: The RMP uses several population-specific, performance indicators to assess the effectiveness of the RMP. The performance indicators include: abundance, productivity, escapement, and management actions. The combined status of all these indicators are used to determine “run health”. These indicators are explained in more detail in the RMP and in the proposed evaluation and recommended determination document. Performance indicators also include indicators for monitoring the fisheries. The primary monitoring indicator is the estimates of exploitation rates obtained from the fisheries. Secondary fishery indicators include catch and catch rate, fishing effort, non-landed fishing-related mortality, and catch and escapement composition (size, age, mark rates, etc.).

Comment: The commenter suggested that the abundance numbers used in the RMP cannot be validated.

Response: NMFS recognizes that there are data gaps in the summer chum salmon escapement and harvest information. However, the RMP and NMFS’ evaluation used the best available scientific information. Currently, over 90 percent of the spawning grounds are surveyed. Catch is estimated by intensively sub-sampling a proportion of the harvest. More importantly, an exploitation rate approach is more resilient to data uncertainty and environmental variability than a fixed goal approach.

Comment: The commenter’s suggested the elimination of gill nets as a gear type.

Response: This comment is directed at the RMP and not NMFS’ proposed evaluation and recommended determination. No response was necessary.

Comment: The final comment in this category addressed the commenter’s concern over the commitment of the Co-managers to conduct the required monitoring.

Response: The Co-managers have designed the BCR management actions to provide sufficient protection for summer-run chum populations at the current levels of monitoring. The Co-managers have committed to maintaining the core elements of the monitoring programs, while recognizing that additional monitoring activities are important and are actively seeking funds to support them. However, as an implementation term, NMFS required all sampling, monitoring, assessment, evaluation, enforcement and reporting tasks or assignments related to harvest management in the RMP be conducted by the Co-managers as required in the RMP. The RMP requires the Co-managers to maintain fishery sampling at 1998 levels or above. The RMP also calls for specific and integrated monitoring programs to maintain and improve population assessment methodologies as well as evaluating the effectiveness of harvest management actions and objectives.

4. Supplementation

All comments received under this category addressed hatchery operations (supplementation) and fall outside the harvest component of the SCSCI (the RMP). No response was necessary.

5. Population Growth Rate

Comment: Two of the three comments received under this category addressed the RMP or hatchery operations and not NMFS’ proposed evaluation and recommended determination of the harvest component of the SCSCI (the RMP). No response was necessary. The commenter also suggested that the proposed average exploitation rates could be reduced further by selective fishing methods.

Response: Selective fishing is a key aspect of the RMP. During the BCR, no direct take of Hood Canal summer-run chum salmon is allowed. Summer chum salmon are caught incidentally in fisheries targeting other abundant and healthy populations. Most of these fisheries require the non-retention of summer chum salmon. The proposed RMP management actions affect all salmon fisheries which impact listed Hood Canal summer-run chum salmon, including Canadian salmon fisheries. In any given year, the results of these management actions are designed to produce exploitation rates within the range of 3.3 to 15.3 percent on summer chum salmon bound for the Hood Canal and 2.8 to 11.8 percent on the Strait of Juan de Fuca populations. Although in any one year, fisheries may be managed for exploitation rates lower than this range, the upper end of the exploitation rate ranges may not be exceeded. At the time of the five-year plan review, the annual exploitation rates for the previous five-year period are not to be clustered towards either extreme of the range. The expected average annual exploitation rate is 10.9 percent on summer chum salmon bound for the Hood Canal and 8.8 percent on the Strait of Juan de Fuca populations.

NMFS’ analysis indicates that the proposed fishing regime (BCR) would not result in escapement significantly less than if fishing had not occurred at all. These exploitation rates were evaluated by NMFS and found to meet the requirements of Limit 6 of the ESA 4(d) Rule. This included the NMFS’ recommended determination that the RMP will not appreciably reduce the likelihood of survival and recovery of the ESU in the wild. Based on this analysis, excluding populations that are below the critical thresholds (which require Co-managers to investigate additional harvest management measures), a further reduction in the BCR average exploitation rate is not needed to meet the Limit 6, ESA 4(d) Rule requirements.

References

A complete list of all references cited herein is available upon request (see ADDRESSES), or through the documents available on the Sustainable Fisheries web site (see Electronic Access, under the heading SUPPLEMENTARY INFORMATION).

Authority

Under section 4 of the ESA, NMFS, by delegated authority from the Secretary of Commerce, is required to adopt such regulations as it deems necessary and advisable for the conservation of the species listed as threatened. The ESA salmon and steelhead 4(d) rule (65 FR 42422, July 10, 2000) specifies categories of activities that are adequately regulated to provide for the conservation of listed salmonids and sets out the criteria for such activities. The rule further provides that the prohibitions of paragraph (a) of the rule do not apply to actions undertaken in compliance with a RMP developed jointly by the State of Washington and the Tribes (joint plan) and determined by NMFS to be in accordance with the salmon and steelhead 4(d) rule (65 FR 42422, July 10, 2000).

Dated: June 7, 2001.
Chris Mobley,
Acting Chief, Endangered Species Division, Office of Protected Resources, National Marine Fisheries Service.

[FR Doc. 01-14770 Filed 6-11-01; 8:45 am]

BILLING CODE 3510-22 -S